DEPARTMENT OF THE INTERIOR

National Park Service

[NPS-NERO-CAJO-21276; PPNECAJO00 PPMPSPD1Z.Y00000]

Notice of Meeting for Captain John Smith Chesapeake National Historic Trail Advisory Council

AGENCY: National Park Service, Interior.

ACTION: Notice of meeting.

SUMMARY: As required by the Federal Advisory Committee Act (5 U.S.C. Appendix 1-16), the National Park Service (NPS) is hereby giving notice that the Advisory Council for the Captain John Smith Chesapeake National Historic Trail (Council) will hold a meeting. The Council will meet for the purpose of discussing segment planning, land and resource management and the National Register of Historic Places eligibility process. Designated through an amendment to the National Trails System Act (16 U.S.C. 1241 to 1251, as amended), the Captain John Smith Chesapeake National Historic trail consists of “a series of water routes extending approximately 3,000 miles along the Chesapeake Bay and the tributaries of the Chesapeake Bay in the States of Virginia, Maryland, Delaware, and in the District of Columbia,” tracing the 1607-1609 voyages of Captain John Smith to chart the land and waterways of the Chesapeake Bay. In 2012, the trail was extended to include four river segments closely associated with Captain John Smith's exploration of the Chesapeake Bay, including the north and west branches of the Susquehanna River.

DATES: The Council will meet from 1:00 p.m. to 4:00 p.m. on Monday, August 1, 2016, and from 9:00 a.m. to 2:00 p.m. on Tuesday, August 2, 2016 (EASTERN).

ADDRESSES: The meeting will be held at the Columbia Crossing River Trails Center at Columbia River Park, 41 Walnut Street, Columbia, PA 17512. For more information, please contact the NPS Chesapeake Bay Office, 410 Severn Avenue, Suite 314, Annapolis, MD 21403, telephone (410) 260-2477.

FOR FURTHER INFORMATION CONTACT: Christine Lucero, Partnership Coordinator, telephone (757) 258-8914 or email Christine_Lucero@nps.gov.

SUPPLEMENTARY INFORMATION: This meeting is open to the public. Preregistration is required for both public attendance and comment. Any individual who wishes to attend the meeting and/or participate in the public comment session should register via email at Christine_Lucero@nps.gov or telephone (757) 258-8914. For those wishing to make comments, please provide a written summary of your comments prior to the meeting. The Designated Federal Official for the Council is Jonathan Doherty, Assistant Superintendent, telephone (410) 260-2477.

Comments will be taken for 30 minutes at the end of the meeting on August 2, 2016, (from 1:30 p.m. to 2:00 p.m.). Before including your address, telephone number, email address, or other personal identifying information in your comment, you should be aware that your entire comment—including your personal identifying information—may be made publicly available at any time. While you may ask us in your comment to withhold your personal identifying information from public review, we cannot guarantee that we will be able to do so. All comments will be made part of the public record and will be electronically distributed to all Council members.

Alma Ripps,
Chief, Office of Policy.

[FR Doc. 2016-16103 Filed 7-6-16; 8:45 am]

BILLING CODE 4310-EE-P